DEPARTMENT OF THE TREASURY

Public Input on the Report to Congress on the U.S. and Global Reinsurance Market

AGENCY: Departmental Offices, Treasury.

ACTION: Notice and request for comment.

SUMMARY: Section 502 the Dodd-Frank Wall Street Reform and Consumer Protection Act. Pub. L. 111-203) (the Dodd-Frank Act), as codified in Section 313(o) of Title 31 of the United States Code, requires the Federal Insurance Office (FIO) to provide a report not later than September 30, 2012, describing the breadth and scope of the global reinsurance market and the critical role such market plays in supporting insurance in the United States. To assist FIO in completing this report, FIO issues this request for comment.

DATES: Comment Due Date: August 27, 2012. Early submissions are encouraged.

ADDRESSES: Interested persons may submit comments electronically through the Federal eRulemaking Portal at http://www.regulations.gov, in accordance with the instructions. Comments will be available at http://www.regulations.gov as submitted, unless modified for technical reasons. Accordingly, your comments will not be edited to remove any identifying or contact information. Electronic submissions are encouraged.

Comments may also be mailed to the Department of the Treasury, Federal Insurance Office, 1500 Pennsylvania Avenue NW., Washington, DC 20220. Additional Instructions. Please note the number from the “Solicitation for Comment” to which you are providing a response in your comment.

FOR FURTHER INFORMATION CONTACT: Michael T. McRaith, Director Federal Insurance Office, Department of the Treasury, (202) 622-5394 (this is not a toll-free number). Persons who have difficulty hearing or speaking may access this number via TTY by calling the toll-free Federal Relay Service at 800-877-8339.

SUPPLEMENTARY INFORMATION:

I. Background

The Dodd-Frank Act requires FIO to conduct a study describing the breadth and scope of the global reinsurance market and the critical role such market plays in supporting insurance in the United States (31 U.S.C. 313(o)(1)).

II. Solicitation for Comments

Commenters are invited to submit views on:

1. The purpose of reinsurance;

2. The breadth and scope of the global reinsurance market;

3. The role that the global reinsurance market plays in supporting insurance in the United States;

4. The effect of domestic and international regulation on reinsurance in the United States;

5. The role and impact of government reinsurance programs; and

6. The coordination of reinsurance supervision nationally and internationally.

7. Any other topics relevent to this report.

Authority: Pub. L. 111-203

Michael T. McRaith,
Director, Federal Insurance Office, Department of the Treasury.

[FR Doc. 2012-15685 Filed 6-26-12; 8:45 am]

BILLING CODE 4810-25-P